DEPARTMENT OF STATE

[Public Notice 5147]

Culturally Significant Objects Imported for Exhibition Determinations: “Lords of Creation: the Origins of Sacred Maya Kingship”

ACTION: Notice.

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236 of October 19, 1999, as amended, and Delegation of Authority No. 257 of April 15, 2003 [68 FR 19875], I hereby determine that additional objects to be included in the exhibition “Lords of Creation: the Origins of Sacred Maya Kingship,” imported from abroad for temporary exhibition within the United States, are of cultural significance. The additional objects are imported pursuant to loan agreements with the foreign lenders. I also determine that the exhibition or display of the additional exhibit objects at the Los Angeles County Museum of Art, Los Angeles, CA, from on or about September 10, 2005, to on or about January 2, 2006; Dallas Museum of Art, Dallas, TX, from on or about February 12, 2006, to on or about May 7, 2006; Metropolitan Museum of Art, New York, NY, from on or about June 11, 2006, to on or about September 10, 2006, and at possible additional venues yet to be determined, is in the national interest. Public Notice of these Determinations is ordered to be published in the Federal Register.

FOR FURTHER INFORMATION CONTACT: For further information, including a list of the exhibit objects, contact Julianne Simpson, Attorney-Adviser, Office of the Legal Adviser, U.S. Department of State, (telephone: 202/453-8049). The address is U.S. Department of State, SA-44, 301 4th Street, SW., Room 700, Washington, DC 20547-0001.

Dated: July 28, 2005.
C. Miller Crouch,
Principal Deputy Assistant Secretary for Educational and Cultural Affairs, Department of State.

[FR Doc. 05-15452 Filed 8-3-05; 8:45 am]

BILLING CODE 4710-08-P